INTERNATIONAL TRADE COMMISSION

Investigations Nos. 731-TA-726, 727, and 729 (Review)

Polyvinyl Alcohol From China, Japan, and Taiwan

AGENCY: United States International Trade Commission.

ACTION: Termination of five-year reviews.

SUMMARY: The subject five-year reviews were initiated in April 2001 to determine whether revocation of the antidumping duty orders on polyvinyl alcohol from China, Japan, and Taiwan would be likely to lead to continuation or recurrence of dumping and of material injury to a domestic industry. On May 3, 2001, the Department of Commerce published notice that it was revoking the orders “[b]ecause no domestic interested party responded to the sunset review notice of initiation by the applicable deadline” (66 FR 22145). Accordingly, pursuant to section 751(c) of the Tariff Act of 1930 (19 U.S.C. § 1675(c)), the subject reviews are terminated.

EFFECTIVE DATE: May 3, 2001.

FOR FURTHER INFORMATION CONTACT: Vera Libeau (202-205-3176), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public

Authority: These reviews are being terminated under authority of title VII of the Tariff Act of 1930; this notice is published pursuant to section 207.69 of the Commission's rules (19 CFR 207.69).

Issued: May 4, 2001.
By order of the Commission.
Donna R. Koehnke,
Secretary.

[FR Doc. 01-11845 Filed 5-9-01; 8:45 am]

BILLING CODE 7020-02-P